FEDERAL MINE SAFETY AND HEALTH REVIEW COMMISSION

Changes in Meeting; Federal Register Citation of Previous Announcement 66 FR 22267

TIME AND DATE: 10 a.m., Wednesday, May 30, 2001.

PLACE: Room 6005, 6th Floor, 1730 K Street, NW., Washington, DC.

STATUS: Closed in Part (Pursuant to 5 U.S.C. 552b(c)(10)).

CHANGES IN MEETING: Eagle Energy, Inc., Docket No. WEVA 98-123. The Commission has granted a motion by Eagle Energy, Inc., to exclude from consideration at the May 30, 2001, meeting the issue of whether the judge's frequent questioning of witnesses improperly interfered with the operator's presentation of its case and reflected bias.

Because agency business so requires, the Commission has unanimously voted to change the status of the meeting from “closed in part” to “open in its entirety,” pursuant to 5 U.S.C. 552b(c)(10).

No earlier announcement of these changes was possible.

CONTACT PERSON FOR MORE INFO: Jean Ellen (202) 653-5629 / (202) 708-9300 for TDD Relay / 1-800-877-8339 for toll free.

Jean H. Ellen,
Chief Docket Clerk.

[FR Doc. 01-14089 Filed 5-31-01; 12:56 pm]

BILLING CODE 6735-01-M